FEDERAL COMMUNICATIONS COMMISSION

[Report No. AUC-01-37-H (Auction No. 37); DA 01-2148]

Auction for FM Non-Reserved Band FM Allotments

AGENCY: Federal Communications Commission.

ACTION: Notice.

SUMMARY: This document announces the postponement of Broadcast Auction No. 37 for vacant non-reserved band FM allotments.

FOR FURTHER INFORMATION: Kathy Garland, Auctions and Industry Analysis Division, Wireless Telecommunications Bureau at (717) 338-2888; Kenneth Burnley, Legal Branch, Auctions and Industry Analysis Division, Wireless Telecommunications Bureau at (202) 418-0660; or Lisa Scanlan, Audio Services Division, Mass Media Bureau at (202) 418-2700.

SUPPLEMENTARY INFORMATION: This is a summary of a Public Notice released September 14, 2001. The complete text of the Public Notice is available for inspection and copying during normal business hours in the FCC Reference Information Center (Room CY-A257), 445 12th Street, SW., Washington, DC. It may also be purchased from the Commission's copy contractor, Qualex International, 445 12th Street, SW., Room CY-B402, Washington, DC 20554, (202) 863-2898. It is also available on the Commission's Web site at http://www.fcc.gov.

General Information

The Wireless Telecommunications Bureau and the Mass Media Bureau (collectively, the “Bureaus”) announce the postponement of Auction No. 37 for vacant non-reserved band FM allotments, which was previously scheduled to begin on December 5, 2001.

On July 3, 2001, the United States Court of Appeals for the District of Columbia Circuit in National Public Radio, Inc. et al., v. FCC, Nos. 00-1246, 00-1255 (decided July 3, 2001) (“NPR”) vacated the portion of the Commission's Noncommercial Report and Order, 65 FR 36375 (June 8, 2000), that required noncommercial educational (“NCE”) entities that applied for authorizations in the non-reserved spectrum to participate in auctions with mutually exclusive commercial applicants. Each of the vacant non-reserved FM band allotments included in Auction No. 37 is potentially impacted by NPR. The Bureaus announce that they will postpone Auction No. 37 while the Commission formulates its response to the NPR decision. Therefore, the previously announced filing window for FCC Form 175 submissions is cancelled, and Auction No. 37 FCC Form 175 applications will not be accepted as previously scheduled. Further information, including a revised FM Auction No. 37 schedule, will be announced in forthcoming Commission notices.

Federal Communications Commission.
Lisa Scanlan,
Supervisory Attorney, Audio Services Division, Mass Media Bureau.

[FR Doc. 01-23498 Filed 9-19-01; 8:45 am]

BILLING CODE 6712-01-P